DEPARTMENT OF DEFENSE

Department of the Navy

Notice of Intent To Grant Exclusive Patent License; Aurora Technologies, LLC

AGENCY: Department of the Navy, DoD.

ACTION: Notice.

SUMMARY: The Department of the Navy hereby gives notice of its intent to grant to Aurora Technologies, LLC a revocable, nonassignable, exclusive license to practice in the United States, the Government-owned inventions described in Navy Case 101713 entitled Laser Treated Heat Transfer Surface.//Navy Case 101445 entitled Surface Enhancement Via Applied Laser Energy.

DATES: Anyone wishing to object to the grant of this license must file written objections along with supporting evidence, if any, not later than May 7, 2012.

ADDRESSES: Written objections are to be filed with the Naval Surface Warfare Center, Crane Div, Code OOL, Bldg. 2, 300 Highway 361, Crane, IN 47522-5001.

FOR FURTHER INFORMATION CONTACT: Mr. Christopher Monsey, Naval Surface Warfare Center, Crane Div, Code OOL, Bldg 2, 300 Highway 361, Crane, IN 47522-5001, telephone 812-854-4100.

Authority: 35 U.S.C. 207, 37 CFR part 404.

J.M. Beal,
Lieutenant Commander, Office of the Judge Advocate General, U.S. Navy, Federal Register Liaison Officer.

[FR Doc. 2012-9573 Filed 4-19-12; 8:45 am]

BILLING CODE 3810-FF-P